DEPARTMENT OF THE INTERIOR

Bureau of Indian Affairs

Marriage and Dissolution in Courts of Indian Offenses

AGENCY: Bureau of Indian Affairs, Interior.

ACTION: Notice of submission of information collection to the Office of Management and Budget.

SUMMARY: In compliance with the Paperwork Reduction Act of 1995, we are submitting this collection of information to the Office of Management and Budget's (OMB) Office of Information and Regulatory Affairs for approval and renewal.

DATES: Written comments must be submitted by July 29, 2005.

ADDRESSES: Written comments are to be sent directly to the Desk Officer for the Department of the Interior, by e-mail to OIRA_DOCKET@omb.eop.gov, or by telefacsimile to (202) 395-6566. Please send a copy of your comments to Ralph Gonzales, Office of Tribal Services, Bureau of Indian Affairs, 1951 Constitution Avenue, NW., Mail Stop 320-SIB, Washington, DC 20240.

FOR FURTHER INFORMATION CONTACT: Ralph Gonzales, (202) 513-7629.

SUPPLEMENTARY INFORMATION:

On November 3, 2004, a notice of proposed renewal was published in the Federal Register (69 FR 64094) which requested comments. No comments were received.

I. Abstract

The Bureau of Indian Affairs, Department of the Interior, must collect personal information to carry out the requirements of title 25, section 11.600(c)—Marriage, and title 25, section 11.606(c)—Dissolution of Marriage, in order for a Courts of Indian Offenses (CFR court) to issue a marriage license or dissolve a marriage. The information is collected at the initiation of an applicant and only basic information necessary for the CFR court to properly dispose of the matter.

II. Method of Collection

Basic information is requested of applicants for the issuance of a marriage license or for the dissolution of a marriage by a CFR court under 25 CFR part 11. Information is collected by the Clerk of the CFR court so that the functions under 25 CFR 11.600(c), and 11.606(c) may be carried out.

III. Information Collected

CFR courts have been established on certain Indian reservations under the authority vested in the Secretary of the Interior by 5 U.S.C. 301 and 25 U.S.C. 2 and 9; and 25 U.S.C. 13, which authorizes appropriations for “Indian judges.” See Tillett v. Hodel, 730 F. Supp., 381 (W.D. Okla. 1990), aff'd 931 F.2d 636 (10th Cir. 1991), United States v. Clapox, 13 Sawy. 349, 35 F. 575 (D. Ore. 1888). The CFR Courts provide adequate machinery for the administration of justice for Indian tribes in those areas where tribes retain jurisdiction over Indians and is exclusive of state jurisdiction but where tribal courts have not been established to exercise that jurisdiction. Accordingly, CFR courts exercise jurisdiction under title 25 part 11 of the Code of Federal Regulations. Domestic Relations are governed by 25 CFR 11.600 which authorizes the CFR court to conduct marriages and dissolve marriages. In order to be married in a CFR court a marriage license must be obtained (25 CFR 11.601). To comply with this requirement an applicant must respond to the following six questions found at 25 CFR 11.600(c):

(c) A marriage license application shall include the following information:

(1) Name, sex, occupation, address, social security number, and date and place of birth of each party to the proposed marriage;

(2) If either party was previously married, his or her name, and the date, place, and court in which the marriage was dissolved or declared invalid or the date and place of death of the former spouse;

(3) Name and address of the parents or guardian of each party;

(4) Whether the parties are related to each other and, if so, their relationship;

(5) The name and date of birth of any child of which both parties are parents, born before the making of the application, unless their parental rights and the parent and child relationship with respect to the child have been terminated; and

(6) A certificate of the results of any medical examination required by either applicable tribal ordinances, or the laws of the State in which the Indian country under the jurisdiction of the CFR court is located.

For the purposes of § 11.600, the social security number information is requested to confirm identity. Previous marriage information is requested to avoid multiple simultaneous marriages, and to ensure that any pre-existing legal relationships are dissolved. Information on consanguinity is requested to avoid conflict with state or tribal laws against marriages between parties who are related by blood as defined in such laws. Medical examination information may be requested if required under the laws of the state in which the CFR court is located.

To comply with the requirement for dissolution of marriage an applicant must respond to the following six questions found at 25 CFR 11.606(c):

(1) The age, occupation, and length of residence within the Indian country under the jurisdiction of the court of each party;

(2) The date of the marriage and the place at which it was registered;

(3) That jurisdictional requirements are met and that the marriage is irretrievably broken in that either (i) the parties have lived separate and apart for a period of more than 180 days next preceding the commencement of the proceeding or (ii) there is a serious marital discord adversely affecting the attitude of one or both of the parties toward the marriage, and there is no reasonable prospect of reconciliation;

(4) The names, age, and addresses of all living children of the marriage and whether the wife is pregnant;

(5) Any arrangement as to support, custody, and visitation of the children and maintenance of a spouse; and

(6) The relief sought.

For the purposes of § 11.606, Dissolution proceedings, information on occupation and residency is necessary to establish CFR court jurisdiction. Information on the status of the parties, whether they have lived apart 180 days or if there is serious marital discord warranting dissolution, is necessary for the court to determine if dissolution is appropriate. Information on the children of the marriage, their ages and whether the wife is pregnant is necessary for the CFR court to determine the appropriate level of support that may be required from the non-custodial parent.

Title: Law and Order on Indian Reservations, 25 CFR 11, Subpart F.

OMB approval number: 1076-0094.

Type of request: Extension of a currently-approved collection.

Description of the need for the information and proposed use of the information: The information is submitted in order to obtain or retain a benefit, namely, the issuance of a marriage license or a decree of dissolution of marriage from the CFR court.

Affected entities: Indian applicants that are under the jurisdiction of one of the 24 established CFR courts are entitled to receive the benefit of this action by the CFR Court.

Estimated number of respondents: Approximately 260 applications for a marriage license or petition for dissolution of marriage will be filed in the 24 Courts of Indian Offenses annually.

Proposed frequency of responses: On occasion as needed.

Total annual burden: The average burden of submitting a marriage license or petition for dissolution of marriage is 15 minutes per application. The total annual burden is estimated as 65 hours.

Estimated cost: There are no costs to consider, except estimated costs of $100 per court annually, for the material supplies and staff time required by the CFR court.

IV. Request for Comments

The Department of the Interior invites comments to be sent to the Office of Management and Budget concerning:

(a) Whether the collection of information is necessary for the proper performance of the functions of the agency, including whether the information will have practical utility;

(b) The accuracy of the agency's estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

The Office of Management and Budget has up to 60 days to approve or disapprove the information collection but may respond after 30 days; therefore, comments submitted in response to this notice should be submitted to OMB within 30 days in order to assure their maximum consideration. Our practice is to make comments, including names and home addresses of respondents, available for public review during regular business hours. If you wish us to withhold any information, you must state this prominently at the beginning of your comment. We will honor your request to the extent allowable by law.

Please note that an agency may not conduct or sponsor, and a person is not required to respond to a collection of information, unless it displays a currently valid Office of Management and Budget control number.

Dated: June 7, 2005.
Michael D. Olsen,
Acting Principal Deputy Assistant Secretary—Indian Affairs.

[FR Doc. 05-12808 Filed 6-28-05; 8:45 am]

BILLING CODE 4310-4J-P